DEPARTMENT OF THE INTERIOR

Bureau of Land Management

[LLCOF07000.L14920000.ER0000.20X]

Notice of Realty Action: Competitive Issuance of a Communications Use Lease in Hinsdale County, CO

AGENCY: Bureau of Land Management, Interior.

ACTION: Notice of realty action.

SUMMARY: The Bureau of Land Management (BLM) is initiating a competitive bid process for granting a communications-use lease on public land in Hinsdale County, Colorado. The successful bidder will be granted a communications-use lease to construct a new communications facility at the Hill 71 communications site.

DATES: Bid proposals must be received no later than July 22, 2020.

ADDRESSES: Mail bid proposals to Field Manager, BLM Gunnison Field Office, 210 W Spencer Ave, Suite A, Gunnison, CO 81230.

FOR FURTHER INFORMATION CONTACT: Marnie Medina, Realty Specialist, Gunnison Field Office, by telephone (970) 642-4954 or by email at mmedina@blm.gov. Persons who use a telecommunications device for the deaf (TDD) may call the Federal Relay Service (FRS) at 1-800-877-8339 to contact Ms. Medina during normal business hours. The FRS is available 24 hours a day, 7 days a week, to leave a message or question. You will receive a reply during normal business hours.

SUPPLEMENTARY INFORMATION: The BLM Gunnison Field Office determined there is a competitive interest in providing an additional communications-use facility at the Hill 71 communication site in Hinsdale County, Colorado. The competitive bid process described in this Notice will be processed pursuant to Title V of the Federal Land Policy and Management Act of 1976 and BLM right-of-way regulations at 43 CFR part 2800.

Existing communication facilities at the Hill 71 communication site include Hinsdale County-owned buildings and a BLM-owned tower. The existing facilities are at capacity and unable to accommodate additional uses. A second facility (building, tower, back-up generator, etc.) would provide for unmet current and future demand at the site. The BLM received three applications and one expression of interest for developing a communications-use facility at the Hill 71 communication site. The BLM has not formally accepted any of the three applications, thereby making this site suitable for competitive leasing.

The BLM has determined that competition exists for constructing a second communications facility at Hill 71, in accordance with 43 CFR 2804.23. The Hill 71 site is located in an area with sensitive visual resources and the BLM has determined that only one additional facility is appropriate.

The Hill 71 communication site is located approximately 7 miles southeast of Lake City, Colorado, and legally described as:

New Mexico Principal Meridian, Colorado

T. 43 N., R. 4 W.,

sec. 35, lots 6 and 7.

Granting a communications-use lease at the Hill 71 communication site conforms with the BLM Gunnison Resource Area Approved Resource Management Plan, approved in February 1993.

In conformance with the National Environmental Policy Act, an environmental analysis will be conducted once a successful bidder has been identified.

Bid Process: A Prospectus for An Opportunity to Construct, Operate, and Maintain a Commercial Communications Facility at the Hill 71 Communications Site that describes the details of the opportunity, the bid proposal requirements, and instructions for submitting a bid proposal for consideration is available at: https://go.usa.gov/xdUKK. Bid proposals will be evaluated according to the Evaluation Criteria described in the Prospectus.

(Authority: 43 CFR 2800)

Jamie E. Connell,
Colorado State Director.

[FR Doc. 2020-13352 Filed 6-19-20; 8:45 am]

BILLING CODE 4310-JB-P